DEPARTMENT OF COMMERCE

Submission for OMB Review; Comment Request

The Department of Commerce (DOC) has submitted to the Office of Management and Budget (OMB) for clearance of the following proposal for collection of information under the provisions of the Paperwork Reduction Act (44 U.S.C. Chapter 35).

Agency: Bureau of Economic Analysis (BEA), Commerce.

Title: Generic Clearance for Pretesting Research.

Form Number(s): Various.

Agency Approval Number: Will be assigned by OMB.

Type of Request: New collection.

Burden: 5,000 hours.

Number of Respondents: 5,000.

Average Hours Per Response: 1 hour.

Needs and Uses: This research program will be used by BEA to improve questionnaires and procedures, reduce respondent burden, improve sample frames, and ultimately increase the quality of data collected in the bureau's surveys. The clearance will be used to conduct pretesting of surveys conducted by BEA prior to mailing the final survey packages to potential respondents. Pretesting activities will involve methods for identifying problems with the questionnaire or survey procedure such as the following: Cognitive interviews, focus groups, respondent debriefings, behavior coding of respondent/interviewer interaction, split panel tests, voluntary sample surveys (including automated surveys). OMB will be informed in writing of the purpose and scope of each of these activities, as well as the time frame and the number of burden hours used. The number of hours used will not exceed the number set aside for this purpose.

Affected Public: Businesses or other for-profit organizations, not-for-profit institutions, and State, Local or Tribal Governments.

Frequency: As requested.

Respondents Obligation: Voluntary.

Legal Authority: International Investment and Trade in Services Survey Act (Pub. L. 94-472, 22 U.S.C. 3101-3108).

OMB Desk Officer: Paul Bugg, (202) 395-3093.

You may obtain copies of the above information collection proposal by calling or writing Diana Hynek, Departmental Paperwork Clearance Officer, Department of Commerce, Room 6025, 14th and Constitution Avenue, NW., Washington, DC 20230, or via the Internet at dhynek@doc.gov.

Send comments on the proposed information collection within 30 days of publication of the notice to Office of Management and Budget, O.I.R.A., Attention PRA Desk Officer for BEA, via the Internet at pbugg@omb.eop.gov, or by FAX at 202-395-7245.

Dated: May 3, 2005.
Madeleine Clayton,
Management Analyst, Office of the Chief Information Officer.

[FR Doc. 05-9158 Filed 5-6-05; 8:45 am]

BILLING CODE 3510-34-P